DEPARTMENT OF AGRICULTURE

Forest Service

Six Rivers National Forest, Mad River Ranger District, Ruth, California, Beaverslide Timber Sale and Fuel Treatment Project

AGENCY: Forest Service, USDA.

ACTION: Notice of intent to prepare an environmental impact statement.

SUMMARY: The Forest Service is proposing the Beaverslide Timber Sale and Fuel Treatment Project to provide timber products to local economies and to reduce hazardous fuels in strategically located high-risk areas around communities in the vicinity of Ruth, California. The Beaverslide planning area encompasses approximately 13,236 acres; 11,757 acres are National Forest System (NFS) lands and 1,479 acres are in private ownership. The project would treat approximately 5,500 acres of NFS lands by harvesting timber through thinning on approximately 2,800 acres, and reducing fuels on an additional 2,700 acres.

The proposed project would take place within the Upper Mad River watershed on NFS lands administered by the Mad River Ranger District in Trinity County, California. The legal location includes portions of the following townships: Township 2 South, Range 7 East; Township 2 South, Range 8 East; and Township 3 South, Range 7 East; Township 3 South, Range 8 East, Humboldt Baseline and Meridian, and Township 26 North, Range 12 West; Township 27 North, Range 12 West, Mount Diablo Baseline and Meridian.

DATES: Scoping for this project is planned for December 2008. The draft environmental impact statement is expected by February 2009 and the final environmental impact statement is expected in June 2009.

ADDRESSES: Send written comments to: Thomas Hudson; Mad River Ranger District; 741 State Highway 36; Bridgeville, CA 95526. Comments may also be sent via e-mail to comments-pacificsouthwest-six-rivers-mad-river@fs.fed.us, attention of the Beaverslide Project or via facsimile to (707) 574-6273.

Comments received in response to this solicitation, including names and addresses of those who comment, will be part of the public record for this proposed action. Comments submitted anonymously will be accepted and considered; however, anonymous comments will not provide the respondent with standing to appeal the subsequent decision.

FOR FURTHER INFORMATION CONTACT: Thomas Hudson; Mad River Ranger District; 741 State Highway 36; Bridgeville, CA 95526 or by telephone at (707)-574-6233.

Individuals who use telecommunication devices for the deaf (TDD) may call the Federal Information Relay Service (FIRS) at 1-800-877-8339 between 8 a.m. and 8 p.m., Eastern Time, Monday through Friday.

SUPPLEMENTARY INFORMATION: The Beaverslide Timber Sale and Fuel Treatment Project is designed to contribute timber commodity outputs in support of the Six Rivers Forest National Forest Land and Resource Management Plan (LRMP). One of the goals of the LRMP is to provide a stable supply of outputs and services that contribute to local, regional, and national social and economic needs. The Six Rivers National Forest seeks to provide a sustainable, predictable, long-term timber supply for local economies (LRMP p. II-2).

The project area also occurs within the wildland-urban interface (WUI) for communities in the vicinity of Ruth, California. In 2005, the Trinity County Fire Safe Council completed a Community Wildfire Protection Plan to address the fire risk surrounding these communities. There are several homes and businesses in the area that are within the WUI. Fuel hazards are moderate but fire risk relative to human safety and property is high due to the number of people in the area. The project is designed to reduce fire hazard and risk to the community.

Purpose and Need for Action

Given Forest goals, and environmental conditions within the planning area, the Purpose and Need for the proposed action is to:

• Provide timber commodities that contribute towards the Forest's goal to provide a sustainable, predictable, long-term timber supply for local economies; and

• Reduce fuel loading in strategic locations to improve fire protection and human safety around communities in the vicinity of Ruth, California.

Within the context of meeting the purpose and need, there would be opportunities for fuelwood or biomass utilization associated with proposed activities.

Proposed Action

The proposed action is designed to meet the project's purpose and need while meeting the standards and guidelines of the LRMP. The Beaverslide Timber Sale and Fuel Treatment Project would treat vegetation to provide commodities and reduce hazardous fuel conditions.

1. Approximately 20-30 million board feet (MMBF) of timber would be harvested from approximately 2,800 acres within 95 treatment units. Harvesting would be accomplished by utilizing ground-based, skyline, and helicopter logging systems.

Actions connected with commercial timber harvest include:

• Treating harvest activity generated fuel;

• Constructing approximately 5.4 miles of new temporary road, and re-opening/re-utilizing approximately 2.9 miles of existing non-system roads;

• Constructing new landings and reutilization of existing landings;

• Hauling of commercial timber products on County Road 504 and Forest Service System roads within the planning area;

• Felling and removal, where appropriate, of hazard trees along haul routes; and

• Decommissioning, maintaining, and reconstructing roads as needed.

2. Fuel loading would be reduced on approximately 2,700 acres within 20 fuel treatment units and 7 strategic fuel treatment corridors.

Responsible Official

The responsible official will be the Forest Supervisor for the Six Rivers National Forest.

Nature of Decision To Be Made

The responsible official will consider the comments, response, disclosure of environmental consequences, and applicable laws, regulations, and policies in making the decision and stating the rationale in the Record of Decision.

Scoping Process

This notice of intent initiates the scoping process, which guides the development of the environmental impact statement. Public scoping will include notices in the newspaper of record and mailings of the scoping package to interested and affected parties and posting of the project on the agency's project planning web page and notice in the agency's quarterly Schedule of Proposed Action. A preliminary scoping package was mailed to interested and affected parties in October 2008.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: December 10, 2008.
Tyrone Kelley,
Forest Supervisor, Six Rivers National Forest.

[FR Doc. E8-29706 Filed 12-16-08; 8:45 am]

BILLING CODE 3410-11-P